FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 21, 2011.

A. Federal Reserve Bank of Chicago (Colette A. Fried, Assistant Vice President) 230 South LaSalle Street, Chicago, Illinois 60690-1414:

1. Ralph C. Stayer, Naples, Florida, individually, and Ralph C. Stayer together with Shelly A. Stayer, Naples, Florida, the RFS 2010 Irrevocable Trust F/B/O Ralph C. Stayer, the Shelly A. Stayer 2010 Childrens Trust, Michael G. Kuechler and Mary A. Kuechler, Fond du Lac, Wisconsin, Michael G. Kuechler and Ralph C. Stayer as trustees of the RFS 2010 Irrevocable Trust F/B/O Ralph C. Stayer, and Michael G. Kuechler and Mary A. Kuechler as trustees of the Shelly A. Stayer 2010 Childrens Trust, as a group acting in concert, to acquire 10 percent or more of the voting shares of Hometown Bancorp, Ltd., Fond du Lac, Wisconsin, and thereby indirectly acquire control of Hometown Bank, Fond du Lac, Wisconsin.

Board of Governors of the Federal Reserve System, April 1, 2011.
Robert deV. Frierson,
Deputy Secretary of the Board.

[FR Doc. 2011-8137 Filed 4-5-11; 8:45 am]

BILLING CODE 6210-01-P